DEPARTMENT OF ENERGY

Methane Hydrate Advisory Committee

AGENCY: Office of Fossil Energy, Department of Energy.

ACTION: Notice of open meeting.

This notice announces a meeting of the Methane Hydrate Advisory Committee. Federal Advisory Committee Act (Pub. L. 92-463, 86 Stat.770) requires that notice of these meetings be announced in the Federal Register.

DATES: Thursday, April 24, 2008, 9 a.m. to 5:30 p.m., Friday, April 25, 2008, 8 a.m. to noon.

ADDRESSES: La Jolla Shores Hotel, 8110 Camino Del Oro, La Jolla, CA 92037.

FOR FURTHER INFORMATION CONTACT: Edith Allison, U.S. Department of Energy, Office of Oil and Natural Gas, Washington, DC 20585. Phone: 202-586-1023.

SUPPLEMENTARY INFORMATION: Purpose of the Committee: The purpose of the Methane Hydrate Advisory Committee is to provide advice on potential applications of methane hydrate to the Secretary of Energy, and assist in developing recommendations and priorities for the Department of Energy Methane Hydrate Research and Development Program.

Tentative Agenda

Thursday, April 24

• Reports and discussion of key Department of Energy-supported field projects.

• Report and discussion of code comparison for various reservoir simulators.

• Report and discussion on methane hydrate role in global climate change.

• Report and discussion of the Minerals Management Service assessment of Gulf of Mexico methane hydrate resource.

Friday, April 25

• Report and discussion of Department's solicitation for new research and development projects.

• Report and discussion of international activities.

• Discussion of committee recommendations to the Secretary of Energy.

• Adjourn.

Public Participation: The meeting is open to the public. The Chairman of the Committee will conduct the meeting to facilitate the orderly conduct of business. If you would like to file a written statement with the Committee, you may do so either before or after the meeting. If you would like to make oral statements regarding any of the items on the agenda, you should contact Edith Allison at the address or telephone number listed above. You must make your request for an oral statement at least five business days prior to the meeting, and reasonable provisions will be made to include the presentation on the agenda. Public comment will follow the 10 minute rule.

Minutes: The minutes of this meeting will be available for public review and copying within 60 days at the Freedom of Information Public Reading Room, Room 1E-190, Forrestal Building, 1000 Independence Avenue, SW., Washington, DC, between 9 a.m. and 4 p.m., Monday through Friday, except Federal holidays.

Issued at Washington, DC, on March 21, 2008.
Rachel Samuel,
Deputy Committee Management Officer.

[FR Doc. E8-6141 Filed 3-25-08; 8:45 am]

BILLING CODE 6450-01-P